DEPARTMENT OF DEFENSE

Department of the Army; Corps of Engineers

Availability of a Final Integrated Feasibility Report (Feasibility Study/Environmental Impact Statement/Environmental Impact Report), Los Angeles River Ecosystem Restoration Study, City of Los Angeles, Los Angeles County, CA

AGENCY: Department of the Army, U.S. Army Corps of Engineers, DoD.

ACTION: Notice of Availability.

SUMMARY: The U.S. Army Corps of Engineers (Corps) in conjunction with the City of Los Angeles (City) announces the availability of a Final Integrated Feasibility Report (IFR), which includes a Final Feasibility Study (FS) and Environmental Impact Statement/Environmental Impact Report (EIS/EIR) for the Los Angeles River Ecosystem Restoration Study, Los Angeles County, CA, for public review and comment. The study evaluates alternatives for the purpose of restoring 11 miles of the Los Angeles River from approximately Griffith Park to downtown Los Angeles while maintaining existing levels of flood risk management. Restoration measures include creation and re-establishment of historic riparian and freshwater marsh habitat to support increased populations of wildlife and enhance habitat connectivity within the study area, as well as to provide opportunities for regional connectivity to ecological zones such as the Santa Monica Mountains, Verdugo Hills, Elysian Hills, and San Gabriel Mountains. Restoration also includes the re-introduction of ecological and fluvial processes through a more natural hydrologic regime, which reconnects the river to historic floodplains and tributaries, reduces flow velocities, increases infiltration, and improves natural sediment processes. The study also evaluates opportunities for passive recreation that is compatible with the restored environment. The study evaluated the No Action Alternative and five action alternatives, named Alternative 10, 13, 13v, 16, and 20. The recommended plan for restoration in the study area is Alternative 20, the locally preferred plan (LPP), which includes compatible recreation features. The recommended plan includes restoration of habitat within 719 acres of the study area through the following measures and features: riparian habitat corridor restoration throughout the 11 miles; restoration of the Arroyo Seco confluence; restoration of the Verdugo Wash confluence; restoration of riparian habitat, a historic wash and its braided channels in the Los Angeles Trailer and Container (LATC) intermodal facility site; removal of channel concrete and riverbed restoration for 0.75 miles; restoration of freshwater marsh in the Los Angeles State Historic Park; restoration of riparian habitat and reconnection to the historic floodplain in Taylor Yard; river widening in 2 reaches; restoration of 13 minor tributaries through stream daylighting; establishment of side channels; and removal of invasive vegetation throughout the project area. A Notice of Intent for the EIS/EIR was published on November 28, 2008 (73 FR 72455). A Notice of Availability for the Draft IFR was published on October 4, 2013 (78 FR 57624). The public review period for the Draft IFR occurred from September 20, 2013 to November 18, 2013.

DATES: The Final IFR is available for a 30-day review period from September 25, 2015 through October 24, 2015 pursuant to the National Environmental Policy Act (NEPA) and California Environmental Quality Act (CEQA). Written comments pursuant to the NEPA will be accepted until the close of public review at close of business on October 24, 2015.

ADDRESSES: Questions or comments concerning the Final IFR may be directed to: Headquarters, U.S. Army Corps of Engineers, Attn: CECW-P (SA), 7701 Telegraph Road, Alexandria, VA 22315-3860.

FOR FURTHER INFORMATION CONTACT: Ms. Eileen Takata, U.S. Army Corps of Engineers, Los Angeles District, Eileen.K.Takata@usace.army.mil OR Ms. Erin Jones, U.S. Army Corps of Engineers, Los Angeles District, Erin.L.Jones@usace.army.mil.

SUPPLEMENTARY INFORMATION: The document is available for review at:

(1) Online: http://www.spl.usace.army.mil/Missions/CivilWorks/ProjectsStudies/LosAngelesRiverEcosystemRestoration.aspx.

(2) Arroyo Seco Regional Branch Library; 6145 N. Figueroa Street, Los Angeles, CA 90042; CD and Hard Copy.

(3) Los Angeles Central Library; 630 W 5th Street Los Angeles, CA 90071; CD and Hard Copy.

(4) Atwater Village Branch Library; 3379 Glendale Boulevard, Los Angeles, CA 90039; CD and Hard Copy.

(5) Cypress Park Branch Library; 1150 Cypress Avenue, Los Angeles CA 90065; CD.

(6) Lincoln Heights Branch Library; 2530 Workman Street, Los Angeles, CA 90031; CD.

(7) Chinatown Branch Library; 639 N. Hill Street, Los Angeles, CA 90012; CD.

(8) Little Tokyo Branch Library; 203 S. Los Angeles Street, Los Angeles CA 90012; CD.

(9) Benjamin Franklin Branch Library; 2200 E. First Street, Los Angeles, CA 90033; CD.

Kirk E. Gibbs,
Colonel, U.S. Army, Commander and District Engineer.

[FR Doc. 2015-24273 Filed 9-24-15; 8:45 am]

BILLING CODE 3720-58-P